DEPARTMENT OF ENERGY

Federal Energy Regulatory Commission

Combined Notice of Filings #2

Take notice that the Commission received the following electric rate filings:

Docket Numbers: ER22-2174-004.

Applicants: Daybreak Solar, LLC.

Description: Compliance filing: Compliance Filing to Reflect Participation in the CAISO's Western EIM to be effective 3/24/2023.

Filed Date: 3/31/23.

Accession Number: 20230331-5002.

Comment Date: 5 p.m. ET 4/21/23.

Docket Numbers: ER23-1408-001.

Applicants: PJM Interconnection, L.L.C.

Description: Tariff Amendment: Supplement to Revisions to Sch. 12-Appx A: February 2023 RTEP in ER23-1408 to be effective 6/14/2023.

Filed Date: 3/31/23.

Accession Number: 20230331-5116.

Comment Date: 5 p.m. ET 5/1/23.

Docket Numbers: ER23-1520-000.

Applicants: PJM Interconnection, L.L.C.

Description: § 205(d) Rate Filing: Amendment to ISA, Service Agreement No. 5861; Queue No. AF2-305/AG1-398 to be effective 5/31/2023.

Filed Date: 3/31/23.

Accession Number: 20230331-5022.

Comment Date: 5 p.m. ET 4/21/23.

Docket Numbers: ER23-1521-000.

Applicants: Virginia Electric and Power Company, PJM Interconnection, L.L.C.

Description: § 205(d) Rate Filing: Virginia Electric and Power Company submits tariff filing per 35.13(a)(2)(iii: VEPCO submits one WDSA, SA No. 6858 to be effective 3/22/2023.

Filed Date: 3/31/23.

Accession Number: 20230331-5037.

Comment Date: 5 p.m. ET 4/21/23.

Docket Numbers: ER23-1522-000.

Applicants: Southern California Edison Company.

Description: § 205(d) Rate Filing: SCE 2023 TACBAA Update to be effective 6/1/2023.

Filed Date: 3/31/23.

Accession Number: 20230331-5096.

Comment Date: 5 p.m. ET 4/21/23.

Docket Numbers: ER23-1523-000.

Applicants: Midcontinent Independent System Operator, Inc.

Description: § 205(d) Rate Filing: 2023-03-31_Available Maximum Emergency Resource Filing to be effective 6/1/2023.

Filed Date: 3/31/23.

Accession Number: 20230331-5099.

Comment Date: 5 p.m. ET 4/21/23.

Docket Numbers: ER23-1524-000.

Applicants: Consumers Energy Company.

Description: § 205(d) Rate Filing: Revised RS FERC No. 116—Removal of Karn 1 & 2 Reactive Supply Service to be effective 6/1/2023.

Filed Date: 3/31/23.

Accession Number: 20230331-5118.

Comment Date: 5 p.m. ET 4/21/23.

Docket Numbers: ER23-1525-000.

Applicants: PJM Interconnection, L.L.C.

Description: Tariff Amendment: Notice of Cancellation of ISA, SA No. 5683, Queue No. AF1-119 to be effective 3/31/2023.

Filed Date: 3/31/23.

Accession Number: 20230331-5148.

Comment Date: 5 p.m. ET 4/21/23.

Docket Numbers: ER23-1526-000.

Applicants: Public Service Company of Colorado.

Description: § 205(d) Rate Filing: 2023-03-31 BkCoU-NonConforming BASA-469-0.1.0 to be effective 4/1/2023.

Filed Date: 3/31/23.

Accession Number: 20230331-5150.

Comment Date: 5 p.m. ET 4/21/23.

Docket Numbers: ER23-1527-000.

Applicants: New York Independent System Operator, Inc.

Description: § 205(d) Rate Filing: NYISO 205 conforming changes re: DAM bidding for certain ICAP Suppliers to be effective 5/31/2023.

Filed Date: 3/31/23.

Accession Number: 20230331-5157.

Comment Date: 5 p.m. ET 4/21/23.

Docket Numbers: ER23-1528-000.

Applicants: ITC Interconnection LLC, PJM Interconnection, L.L.C.

Description: Tariff Amendment: ITC Interconnection LLC submits tariff filing per 35.15: ITCI submits Notice of Cancellation of Interconnection Agreement, SA No. 4426 to be effective 6/1/2023.

Filed Date: 3/31/23.

Accession Number: 20230331-5168.

Comment Date: 5 p.m. ET 4/21/23

Docket Numbers: ER23-1529-000.

Applicants: PJM Interconnection, L.L.C.

Description: § 205(d) Rate Filing: Revisions to OATT, Sec. 31.7 to Enhance Day-Ahead Zonal Factors to be effective 5/31/2023.

Filed Date: 3/31/23.

Accession Number: 20230331-5170.

Comment Date: 5 p.m. ET 4/21/23

Docket Numbers: ER23-1530-000.

Applicants: ITC Interconnection LLC, PJM Interconnection, L.L.C.

Description: Tariff Amendment: ITC Interconnection LLC submits tariff filing per 35.15: ITCI submits Notice of Cancellation of Interconnection Agreement, SA No. 4427 to be effective 6/1/2023.

Filed Date: 3/31/23.

Accession Number: 20230331-5208.

Comment Date: 5 p.m. ET 4/21/23

Docket Numbers: ER23-1531-000.

Applicants: Public Service Company of New Mexico.

Description: § 205(d) Rate Filing: Annual Real Power Loss Factor Filing for 2022 to be effective 6/1/2023.

Filed Date: 3/31/23.

Accession Number: 20230331-5231.

Comment Date: 5 p.m. ET 4/21/23

Docket Numbers: ER23-1532-000.

Applicants: Midcontinent Independent System Operator, Inc., Xcel Energy Services Inc., Northern States Power Company, a Minnesota corporation, Northern States Power Company, a Wisconsin corporation.

Description: § 205(d) Rate Filing: Midcontinent Independent System Operator, Inc. submits tariff filing per 35.13(a)(2)(iii: 2023-03-31_NSP Revisions to Att GG-NSP, MM & O True-Up Procedures to be effective 6/1/2023.

Filed Date: 3/31/23.

Accession Number: 20230331-5250.

Comment Date: 5 p.m. ET 4/21/23.

Docket Numbers: ER23-1533-000.

Applicants: California Independent System Operator Corporation.

Description: § 205(d) Rate Filing: 2023-03-31 Energy Storage Enhancements Tariff Amendment to be effective 12/31/9998.

Filed Date: 3/31/23.

Accession Number: 20230331-5260.

Comment Date: 5 p.m. ET 4/21/23.

Docket Numbers: ER23-1534-000.

Applicants: California Independent System Operator Corporation.

Description: § 205(d) Rate Filing: 2023-03-31 Resource Sufficiency Evaluation Enhancements—Phase 2 to be effective 12/31/9998.

Filed Date: 3/31/23.

Accession Number: 20230331-5270.

Comment Date: 5 p.m. ET 4/21/23.

Docket Numbers: ER23-1535-000.

Applicants: Pennsylvania Electric Company, PJM Interconnection, L.L.C.

Description: § 205(d) Rate Filing: Pennsylvania Electric Company submits tariff filing per 35.13(a)(2)(iii: Penelec submits Revised Interconnection Agreement, Service Agreemement No. 6412 to be effective 5/31/2023.

Filed Date: 3/31/23.

Accession Number: 20230331-5282.

Comment Date: 5 pm ET 4/21/23.

Docket Numbers: ER23-1536-000.

Applicants: Southwest Power Pool, Inc.

Description: § 205(d) Rate Filing: 1518R25 Arkansas Electric Cooperative Corp NITSA NOA to be effective 3/1/2023.

Filed Date: 3/31/23.

Accession Number: 20230331-5298.

Comment Date: 5 pm ET 4/21/23.

Docket Numbers: ER23-1537-000.

Applicants: Southwest Power Pool, Inc.

Description: § 205(d) Rate Filing: 1628R22 Western Farmers Electric Cooperative NITSA NOAs to be effective 3/1/2023.

Filed Date: 3/31/23.

Accession Number: 20230331-5326.

Comment Date: 5 pm ET 4/21/23.

Docket Numbers: ER23-1538-000.

Applicants: PJM Interconnection, L.L.C.

Description: § 205(d) Rate Filing: Original ISA, Service Agreement No. 6840; Queue No. AD2-067 to be effective 3/1/2023.

Filed Date: 3/31/23.

Accession Number: 20230331-5337.

Comment Date: 5 pm ET 4/21/23.

Docket Numbers: ER23-1539-000.

Applicants: PJM Interconnection, L.L.C.

Description: Tariff Amendment: Notice of Cancellation of ISA, SA No. 4138; Queue No. AD2-075 to be effective 6/1/2023.

Filed Date: 3/31/23.

Accession Number: 20230331-5382.

Comment Date: 5 pm ET 4/21/23.

Docket Numbers: ER23-1540-000.

Applicants: Rock Falls Wind Farm LLC.

Description: Tariff Amendment: Amendment to 348 to be effective 3/31/2023.

Filed Date: 3/31/23.

Accession Number: 20230331-5427.

Comment Date: 5 pm ET 4/21/23.

Docket Numbers: ER23-1541-000.

Applicants: Desert Peak Energy Center, LLC.

Description: Baseline eTariff Filing: Desert Peak Energy Center, LLC Application for Market-Based Rate Authorization to be effective 5/1/2023.

Filed Date: 3/31/23.

Accession Number: 20230331-5443.

Comment Date: 5 pm ET 4/21/23.

Docket Numbers: ER23-1542-000.

Applicants: Desert Peak Energy Storage I, LLC.

Description: Baseline eTariff Filing: Desert Peak Energy Storage I, LLC Application for MBR Authorization to be effective 5/1/2023.

Filed Date: 3/31/23.

Accession Number: 20230331-5447.

Comment Date: 5 pm ET 4/21/23.

Docket Numbers: ER23-1543-000.

Applicants: Desert Peak Energy Storage II, LLC.

Description: Baseline eTariff Filing: Desert Peak Energy Storage II, LLC Application for MBR Authorization to be effective 5/1/2023.

Filed Date: 3/31/23.

Accession Number: 20230331-5450.

Comment Date: 5 pm ET 4/21/23.

Take notice that the Commission received the following electric securities filings:

Docket Numbers: ES23-39-000.

Applicants: PJM Interconnection, L.L.C.

Description: Application Under Section 204 of the Federal Power Act for Authorization to Issue Securities of PJM Interconnection, L.L.C.

Filed Date: 3/29/23.

Accession Number: 20230329-5252.

Comment Date: 5 pm ET 4/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2023.
Debbie-Anne A. Reese,
Deputy Secretary.

[FR Doc. 2023-07221 Filed 4-5-23; 8:45 am]

BILLING CODE 6717-01-P